DEPARTMENT OF HEALTH AND HUMAN SERVICES

National Institutes of Health

Center for Scientific Review; Amended Notice of Meeting

Notice is hereby given of a change in the meeting of the Pathogenic Eukaryotes Study Section, October 17, 2013, 08:30 a.m. to October 18, 2013, 05:00 p.m., Sheraton Gunter Hotel, 205 East Houston Street, San Antonio, TX 78205, which was published in the Federal Register on September 20, 2013, 78 FR 57867.

The meeting will be held at the Courtyard by Marriott Chevy Chase, 5520 Wisconsin Avenue, Chevy Chase, MD 20815. The meeting will start on December 9, 2013 at 08:30 a.m. and end on December 10, 2013 at 05:00 p.m. The meeting is closed to the public.

Dated: October 29, 2013.
Melanie J. Gray,
Program Analyst, Office of Federal Advisory Committee Policy.

[FR Doc. 2013-26203 Filed 11-1-13; 8:45 am]

BILLING CODE 4140-01-P